DEPARTMENT OF HEALTH AND HUMAN SERVICES

Solicitation of Nominations for Appointment to the Presidential Advisory Council on Combating Antibiotic-Resistant Bacteria

AGENCY: Office of the Assistant Secretary for Health, Office of the Secretary, Department of Health and Human Services.

ACTION: Notice.

SUMMARY: The U.S. Department of Health and Human Services (HHS) is soliciting nominations of individuals who are interested in being considered for appointment to the Presidential Advisory Council on Combating Antibiotic-Resistant Bacteria (Advisory Council) as a non-voting liaison representative member from an organization and/or interest group. Nominations from qualified individuals who wish to be considered for appointment to this member category of the Advisory Council are currently being accepted.

DATES: Nominations must be received no later than 5:00 p.m. ET on June 30, 2017.

ADDRESSES: Information on how to submit a nomination is on the Advisory Council Web site, http://www.hhs.gov/ash/carb/.

FOR FURTHER INFORMATION CONTACT: MacKenzie Robertson, Committee Management Officer, Presidential Advisory Council on Combating Antibiotic-Resistant Bacteria, Office of the Assistant Secretary for Health, U.S. Department of Health and Human Services, Room 715H, Hubert H. Humphrey Building, 200 Independence Avenue SW., Washington, DC 20201. Phone: (202) 690-5566; email: CARB@hhs.gov. The Advisory Council charter may be accessed online at http://www.hhs.gov/ash/carb/. The charter includes detailed information about the Advisory Council's purpose, function, and structure.

SUPPLEMENTARY INFORMATION: Under Executive Order 13676, dated September 18, 2014, authority was given to the Secretary of HHS to establish the Advisory Council, in consultation with the Secretaries of Defense and Agriculture. Activities of the Advisory Council are governed by the provisions of Public Law 92-463, as amended (5 U.S.C. App.), which sets forth standards for the formation and use of federal advisory committees. The Advisory Council will provide advice, information, and recommendations to the Secretary of HHS regarding programs and policies intended to preserve the effectiveness of antibiotics by optimizing their use; advance research to develop improved methods for combating antibiotic resistance and conducting antibiotic stewardship; strengthen surveillance of antibiotic-resistant bacterial infections; prevent the transmission of antibiotic-resistant bacterial infections; advance the development of rapid point-of-care and agricultural diagnostics; further research on new treatments for bacterial infections; develop alternatives to antibiotics for agricultural purposes; maximize the dissemination of up-to-date information on the appropriate and proper use of antibiotics to the general public and human and animal healthcare providers; and improve international coordination of efforts to combat antibiotic resistance.

The Advisory Council is authorized to consist of not more than 30 members, including the voting and non-voting members and the Chair and Vice Chair. The current composition of the Advisory Council consists of 15 voting members, including the Chair and Vice Chair, five non-voting liaison representative members, and 10 non-voting ex-officio members. The non-voting liaison representatives are selected from organizations and/or interest groups that have involvement in the development, testing, licensing, production, procurement, distribution, and/or use of antibiotics and/or antibiotic research. Organizations are invited to participate as non-voting liaison representatives as it is deemed necessary by the Secretary or designee to accomplish the established mission of the Advisory Council.

This announcement is to solicit nominations to fill positions that are scheduled to be vacated during the 2017 calendar year in the non-voting liaison representative member category. Non-voting liaison representative members are appointed to serve two-year terms. Individuals from the following sectors are being sought to serve a non-voting liaison representatives: (1) Professional organizations representing infectious disease, epidemiology, infection control, physicians, nurses, pharmacists, microbiologists, and veterinarians; (2) public health organizations representing laboratories, health officials, epidemiologists (state/territorial, county, or local); (3) organizations advocating for patients and consumers; (4) organizations representing state departments of agriculture; (5) hospitals; (6) foundations with an interest in antibiotic resistance and promoting antibiotic stewardship; (7) pharmaceutical industry—animal and human health; (8) food producers—livestock, poultry, and seafood; (9) in vitro diagnostics; (10) food retailers; (11) food processors; (12) animal feed producers; and (13) farm bio-security.

Individuals who are appointed to serve as non-voting liaison representative members may be allowed to receive per diem and reimbursement for any applicable expenses for travel that is performed to attend meetings of the Advisory Council in accordance with federal travel regulations. The Advisory Council meets, at a minimum, two times per fiscal year depending on the availability of funds. Meetings are open to the public, except as determined otherwise by the Secretary or other official to whom the authority has been delegated in accordance with guidelines under the Government in the Sunshine Act, 5 U.S.C. 552b(c).

Nominations, including self-nominations, of individuals who represent organizations that have the specified expertise and knowledge sought will be considered for appointment as non-voting liaison representative members of the Advisory Council. Every effort will be made to ensure that the Advisory Council is a diverse group of individuals with representation from various geographic locations, racial and ethnic minorities, all genders, and persons living with disabilities. Detailed information on what is required in a nomination package and how to submit one is on the Advisory Council Web site, http://www.hhs.gov/ash/carb/.

Dated: April 25, 2017.
Jewel Mullen,
Acting Director, National Vaccine Program Office.

[FR Doc. 2017-09778 Filed 5-15-17; 8:45 am]

BILLING CODE 4150-28-P